NATIONAL AERONAUTICS AND SPACE ADMINISTRATION

[Notice 04-002]

Revolutionize Aviation Subcommittee; Meeting

AGENCY: National Aeronautics and Space Administration (NASA).

ACTION: Notice of meeting.

SUMMARY: The National Aeronautics and Space Administration announces a forthcoming meeting of the Revolutionize Aviation Subcommittee (RAS).

DATES: Wednesday, February 4, 2004, 9 a.m. to 4 p.m.

ADDRESSES: NASA Headquarters, 300 E Street, SW., Room 7H46A, Washington, DC 20546.

FOR FURTHER INFORMATION CONTACT: Ms. Bernice Lynch, National Aeronautics and Space Administration, NASA Headquarters, Washington, DC 20546, 202/358-4594.

SUPPLEMENTARY INFORMATION: The meeting will be open to the public up to the seating capacity of the room. Agenda topics for the Revolutionize Aviation Subcommittee (RAS) meeting are as follows:

— Review Agenda, & Logistics

— Aeronautics Technology Subcommittee Charter and Membership

— Opening Remarks by Associate Administrator for Aerospace Technology

— Aeronautics Technology Update

— An Assessment of NASA's Aeronautics Technology Programs by the Aeronautics and Space Engineering Board of the National Research Council

— Analysis & Strategic Planning

— Next Steps/Action Summary

Attendees will be requested to sign a register and to comply with NASA security requirements, including the presentation of a valid picture ID, before receiving an access badge. Foreign nationals attending this meeting will be required to provide the following information: full name; gender; date/place of birth; citizenship; visa/green card information (number, type, expiration date); employer/affiliation information (name of institution, address, county, phone); and title/position of attendee. To expedite admittance, attendees can provide identifying information in advance by contacting Bernice Lynch via email at bernice.e.lynch@nasa.gov or by telephone at (202) 358-4594. Persons with disabilities who require assistance should indicate this.

It is imperative that the meeting be held on this date to accommodate the scheduling priorities of the key participant.

Michael F. O'Brien,
Assistant Administrator for External Relations, National Aeronautics and Space Administration.

[FR Doc. 04-842 Filed 1-14-04; 8:45 am]

BILLING CODE 7510-01-P